GENERAL SERVICES ADMINISTRATION

41 CFR Part 102-35

[FMR Case 2004-102-1; Docket 2006-0001; Sequence 3]

RIN 3090-AH93

Federal Management Regulation; Disposition of Personal Property

AGENCY: Office of Governmentwide Policy, General Services Administration (GSA).

ACTION: Proposed rule; reopening of comment period.

SUMMARY: The General Services Administration is reopening the comment period for the subject proposed rule. The proposed rule pertains to amending the Federal Management Regulation (FMR) by revising coverage on personal property and moving it into Subchapter B of the FMR. A proposed rule was published in the Federal Register on September 12, 2006 (71 FR 53646).

DATES: Interested parties should submit comments in writing on or before November 17, 2006 to be considered in the formulation of a final rule.

ADDRESSES: Submit comments identified by FMR case 2004-102-1 by any of the following methods:

• Federal eRulemaking Portal: http://www.regulations.gov. Search for any document by first selecting the proper document types and selecting “General Services Administration” as the agency of choice. At the “Keyword” prompt, type in the FMR case number (for example, FMR Case 2006-102-1) and click on the “Submit” button. You may also search for any document by clicking on the “Advanced search/document search” tab at the top of the screen, selecting from the agency field “General Services Administration”, and typing the FMR case number in the keyword field. Select the “Submit” button.

• Fax: 202-501-4067.

• Mail: General Services Administration, Regulatory Secretariat (VIR), 1800 F Street, NW., Room 4035, ATTN: Laurieann Duarte, Washington, DC 20405.

Instructions: Please submit comments only and cite FMR case 2004-102-1 in all correspondence related to this case. All comments received will be posted without change to http://www.regulations.gov, including any personal information provided.

FOR FURTHER INFORMATION CONTACT: Mr. Robert Holcombe, Office of Governmentwide Policy, Personal Property Management Policy, at (202) 501-3828, or e-mail at robert.holcombe@gsa.gov, for clarification of content. For information pertaining to status or publication schedules, contact the Regulatory Secretariat at (202) 501-4755, Room 4035, GS Building, Washington, DC, 20405. Please cite FMR case 2004-102-1.

Dated: October 12, 2006.
Russ H. Pentz,
Assistant Deputy Associate Administrator.

[FR Doc. E6-17340 Filed 10-17-06; 8:45 am]

BILLING CODE 6820-14-S